DEPARTMENT OF TRANSPORTATION

Federal Aviation Administration

14 CFR Part 71

[Docket No. FAA-2017-1144; Airspace Docket No. 16-AGL-30]

Proposed Modification of Air Traffic Service (ATS) Routes in the Vicinity of Richmond, IN

AGENCY: Federal Aviation Administration (FAA), DOT.

ACTION: Notice of proposed rulemaking (NPRM).

SUMMARY: This action proposes to modify five VHF Omnidirectional Range (VOR) Federal airways (V-12, V-214, V-340, V-467, and V-517) and one low altitude area navigation (RNAV) route (T-213) in the vicinity of Richmond, IN. The FAA is proposing this action due to the planned decommissioning of the Richmond, IN (RID), VHF Omnidirectional Range/Tactical Air Navigation (VORTAC) navigation aid (NAVAID) which provides navigation guidance for portions of the affected ATS routes. Overall, this action would enhance the safety and management of aircraft within the National Airspace System (NAS).

DATES: Comments must be received on or before February 26, 2018.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2017-1144 and Airspace Docket No. 16-AGL-30 at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would support the route structure in the Richmond, IN, area as necessary to preserve the safe and efficient flow of air traffic within the NAS.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2017-1144 and Airspace Docket No. 16-AGL-30) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2017-1144 and Airspace Docket No. 16-AGL-30.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Background

The FAA was originally considering decommissioning activities for the Richmond, IN (RID), VORTAC in 2023 as one of the candidate VORs identified for discontinuance by the VOR Minimum Operating Network (VOR MON) program as listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. However, recent damage to the roof of the structure that houses the VORTAC has been determined to be significant enough that repair to the roof would not be cost effective for the period of time the VORTAC was originally planned to be retained. As a result, the FAA is now planning to decommission the Richmond, IN, VORTAC in 2018 and to amend the ATS routes that use the VORTAC prior to its decommissioning. The ATS routes affected by the Richmond VORTAC are VOR Federal airways V-12, V-214, V-340, V-467, V-517, and low altitude RNAV route T-213.

With the planned decommissioning of the Richmond, IN, VORTAC, the remaining ground-based NAVAID coverage in the area is insufficient to enable the continuity of the affected airways. As such, proposed modifications to VOR Federal airways V-12, V-214, V-340, V-467, and V-517 would result in gaps in the route structures. To overcome the gaps in the route structures, instrument flight rules (IFR) traffic could use adjacent VOR Federal airways (V-5, V-47, V-50, V-55, V-97, V-214 (retained portions), V-221, and V-275) to circumnavigate the affected area, file point to point through the affected area using fixes that will remain in place, or receive air traffic control (ATC) radar vectors through the area. Visual flight rules (VFR) pilots who elect to navigate via the airways through the affected area could also take advantage of the adjacent VOR Federal airways or ATC services previously listed.

Additionally, due to the planned decommissioning of the Richmond, IN, VORTAC, the end point in the T-213 route description (the Richmond VORTAC) would be redefined to retain the T-route as charted.

The Proposal

The FAA is proposing an amendment to Title 14, Code of Federal Regulations (14 CFR) part 71 to modify VOR Federal airways V-12, V-214, V-340, V-467, and V-517, and low altitude RNAV route T-213. The planned decommissioning of the Richmond, IN, VORTAC has made these actions necessary.

The proposed VOR Federal airways and RNAV T-route changes are outlined below.

V-12: V-12 currently extends between the Gaviota, CA, VORTAC and the Pottstown, PA, VORTAC. The FAA proposes to remove the airway segment between the Shelbyville, IN, VOR/Distance Measuring Equipment (VOR/DME) and the Allegheny, PA, VOR/DME. The unaffected portions of the existing airway would remain as charted in the two remaining segments.

V-214: V-214 currently extends between the Kokomo, IN, VORTAC and the Richmond, IN, VORTAC; and between the intersection of the Appleton, OH, VORTAC 236° and Zanesville, OH, VOR/DME 274° radials (GLOOM fix) and the Teterboro, NJ, VOR/DME. The FAA proposes to remove the airway segment between the Muncie, IN, VOR/DME and the Richmond, IN, VORTAC. The unaffected portions of the existing airway would remain as charted in the two remaining segments.

V-340: V-340 currently extends between the intersection of the Peotone, IL, VORTAC 053° and Knox, IN, VOR/DME 297° radials (BEARZ fix) and the Richmond, IN, VORTAC. The FAA proposes to remove the airway segment between the Fort Wayne, IN, VORTAC and the Richmond, IN, VORTAC. The unaffected portions of the existing airway would remain as charted.

V-467: V-467 currently extends between the Richmond, IN, VORTAC and the Detroit, MI, VOR/DME. The FAA proposes to remove the airway segment between the Richmond, IN, VORTAC and the Waterville, OH, VOR/DME. The unaffected portion of the existing airway would remain as charted.

V-517: V-517 currently extends between the Snowbird, TN, VORTAC and Dayton, OH, VOR/DME. The FAA proposes to remove the airway segment between the Cincinnati, OH, VORTAC and the Dayton, OH, VOR/DME. The unaffected portions of the existing airway would remain as charted.

T-213: T-213 currently extends between the Louisville, KY, VORTAC and Richmond, IN, VORTAC. The FAA proposes to remove the VOR portion of the Richmond, IN, VORTAC from service and retain the DME equipment, with the same three-letter identifier, in service at the same location. The existing RNAV route would remain as charted.

All radials in the route descriptions below are unchanged and stated in True degrees.

VOR Federal airways are published in paragraph 6010(a), and United States Area Navigation Routes (low altitude T-routes) are published in paragraph 6011, of FAA Order 7400.11B dated August 3, 2017, and effective September 15, 2017, which is incorporated by reference in 14 CFR 71.1. The VOR Federal airways and RNAV T-route listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a) Domestic VOR Federal Airways.

* * * * *

V-12 [Amended]

From Gaviota, CA; San Marcus, CA; Palmdale, CA; 38 miles, 6 miles wide, Hector, CA; 12 miles, 38 miles, 85 MSL, 14 miles, 75 MSL, Needles, CA; 45 miles, 34 miles, 95 MSL, Drake, AZ; Winslow, AZ; 30 miles, 85 MSL, Zuni, NM; Albuquerque, NM; Otto, NM; Anton Chico, NM; Tucumcari, NM; Amarillo, TX; Mitbee, OK; Anthony, KS; Wichita, KS; Emporia, KS; INT Emporia 063° and Napoleon, MO, 243° radials; Napoleon; INT Napoleon 095° and Columbia, MO, 292° radials; Columbia; Foristell, MO; Troy, IL; Bible Grove, IL; to Shelbyville, IN. From Allegheny, PA; Johnstown, PA; Harrisburg, PA; INT Harrisburg 092° and Pottstown, PA, 278° radials; to Pottstown.

* * * * *

V-214 [Amended]

From Kokomo IN, Marion, IN; to Muncie, IN. From INT Appleton, OH, 236° and Zanesville, OH, 274° radials; Zanesville; Bellaire, OH; INT Bellaire 107° and Grantsville, MD, 285° radials; Grantsville; Martinsburg, WV; INT Martinsburg 094° and Baltimore, MD, 300° radials; Baltimore; INT Baltimore 093° and Dupont, DE, 223° radials; Dupont; Yardley, PA; to Teterboro, NJ.

* * * * *

V-340 [Amended]

From INT Peotone, IL, 053° and Knox, IN, 297° radials; Knox; to Fort Wayne, IN.

* * * * *

V-467 [Amended]

From Waterville, OH; to Detroit, MI.

* * * * *

V-517 [Amended]

From Snowbird, TN; INT Snowbird 329° and London, KY, 141° radials; London; INT London 004° and Falmouth, KY, 164° radials; Falmouth; to Cincinnati, OH.

* * * * *

Paragraph 6011 United States Area Navigation Routes.

* * * * *

T-213 Louisville, KY to Richmond, IN
Louisville, KY (IIU) | VORTAC | (Lat. 38°06′13″ N, long. 85°34′39″ W)
GAMKE, IN | WP | (Lat. 38°46′13″ N, long. 85°14′35″ W)
MILAN, IN | FIX | (Lat. 39°21′22″ N, long. 85°19′01″ W)
Richmond, IN (RID) | DME | (Lat. 39°45′18″ N, long. 84°50′20″ W)

* * * * *

Issued in Washington, DC, on January 3, 2018.
Rodger A. Dean Jr.,
Manager, Airspace Policy Group.

[FR Doc. 2018-00376 Filed 1-11-18; 8:45 am]

BILLING CODE 4910-13-P